DEPARTMENT OF ENERGY

Federal Energy Regulatory Commission

[Project No. 2905-035]

Village of Enosburg Falls, Vermont; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: Subsequent Minor License.

b. Project No.: 2905-035.

c. Date Filed: April 30, 2021.

d. Applicant: Village of Enosburg Falls, Vermont (Village).

e. Name of Project: Enosburg Falls Hydroelectric Project (project).

f. Location: On the Missisquoi River in Franklin County, Vermont. The project does not occupy any federal land.

g. Filed Pursuant to: Federal Power Act, 16 U.S.C. 791(a)-825(r).

h. Applicant Contact: Abbey Miller, Director of Finance, Village of Enosburg Falls, 42 Village Drive, Village of Enosburg Falls, VT 05450; phone at (802) 933-4443; email at amiller@enosburg.net.

i. FERC Contact: John Baummer at (202) 502-6837, or john.baummer@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2905-035.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

The Council on Environmental Quality (CEQ) issued a final rule on April 20, 2022, revising the regulations under 40 CFR parts 1502, 1507, and 1508 that federal agencies use to implement the National Environmental Policy Act (NEPA) (see National Environmental Policy Act Implementing Regulations Revisions, 87 FR 23,453-70). The final rule became effective on May 20, 2022. Commission staff intends to conduct its NEPA review in accordance with CEQ's new regulations.

l. Project Description: The existing Enosburg Falls Project consists of: (1) a 284-foot-long, 18.5-foot-high concrete and steel gravity dam that includes the following sections: (a) a 5-foot-long east abutment section; (b) a 105-foot-long east spillway section with a 2-foot-high pneumatic crest gate and an elevation of 386.87 feet National Geodetic Vertical Datum of 1929 (NGVD 29) at the top of the gate; (c) a 4-foot-long pier; (d) a 60-foot-long west spillway section with a 2-foot-high pneumatic crest gate and an elevation of 386.87 feet NGVD 29 at the top of the gate; (e) a 46-foot-long west abutment section; and (f) an approximately 64-foot-long, 24-foot-high steel headgate structure that is equipped with: (i) a 60-foot-wide, 20-foot-high inclined steel trashrack with 1-inch clear bar spacing; (ii) two 10-foot-wide, 8-foot-high hydraulically-powered sluice gates; and (iii) a 12-foot-wide, 8-foot-high hydraulically-powered intake gate; (2) a 121-acre impoundment at surface elevation of 386.87 feet NGVD 29; (3) an 80-foot-long, 5.6-foot-diameter steel penstock that extends from the intake gate; (4) a 39.9-foot-long, 24.3-foot-wide concrete and brick masonry powerhouse (Kendall Plant) containing a 375-kilowatt (kW) semi-Kaplan regulated turbine-generator unit that discharges into the Missisquoi River approximately 170 feet downstream of the project dam; (5) an approximately 210-foot-long, 29-foot-wide headrace canal; (6) an intake structure at the downstream end of the headrace canal that is equipped with an approximately 30.1-foot-wide, 11.4-foot-high stoplog slot and an approximately 30.1-foot-wide, 11.4-foot-high inclined trashrack; (7) a 28.7-foot-long, 29.9-foot-wide concrete and brick masonry powerhouse (Village Plant) containing a 600-kW vertical Kaplan turbine-generator unit that discharges to an approximately 240-foot-long, 25-foot-wide tailrace; (8) two 2.4-kilovolt (kV) generator lead lines, respectively 200-foot-long and 250-foot-long, and a 4.16/12.47-kV transformer that connect the project to the local utility distribution system; and (9) appurtenant facilities. The project creates an approximately 1,400-foot-long bypassed reach of the Missisquoi River.

The Village voluntarily operates the project in a run-of-river mode using an automatic pond level control system to regulate turbines operation, such that outflow from the project approximates inflow. Article 401 of the current license requires the Village to: (1) maintain a minimum flow of 293 cubic feet per second (cfs) from April 15-June 15, and 120 cfs from J une 16-April 14, or inflow, whichever is less, from the Kendall Plant to the bypassed reach; and (2) maintain a year-round minimum flow of 293 cfs or inflow, whichever is less, from the Village Plant to the downstream reach of the Missisquoi River. Downstream fish passage is provided by a bypass facility located on the west abutment that consists of a 3-foot-wide, 5-foot-high weir gate, a 3-foot-wide, 6-foot-long concrete fish collection box, and an approximately 65-foot-long, 2-foot-diameter concrete encased fish passage pipe that empties into the bypassed reach approximately 110 feet downstream of the dam.

The Village proposes to: (1) continue operating the project in a run-of-river mode; (2) provide a year-round minimum flow of 243 cfs or inflow, whichever is less, from the Kendall Plant to the bypassed reach; (3) develop a recreation management plan for improving recreation at the project; (4) release 1 inch of spill over the top of the project dam crest gates to provide an aesthetic veil of flow over the dam; (5) develop an operation compliance monitoring plan for maintaining minimum flows, impoundment levels, and run-of-river operation; and (6) develop a historic properties management plan to address and mitigate project effects on historic properties.

m. A copy of the application can be viewed on the Commission's website at https://www.ferc.gov using the “eLibrary” link. Enter the docket number excluding the last three digits in the docket number field to access the document. For assistance, contact FERC Online Support.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must: (1) bear in all capital letters the title “PROTEST,” “MOTION TO INTERVENE,” “COMMENTS,” “REPLY COMMENTS,” “RECOMMENDATIONS,” “TERMS AND CONDITIONS,” or “PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions, or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed on the service list prepared by the Commission in this proceeding, in accordance with 18 CFR 4.34(b) and 385.2010.

You may also register online at https://www.ferc.gov/ferc-online/overview to be notified via email of new filings and issuances related to this or other pending projects. For assistance, contact FERC Online Support.

o. The applicant must file no later than 60 days following the date of issuance of this notice: (1) a copy of the water quality certification; (2) a copy of the request for certification, including proof of the date on which the certifying agency received the request; or (3) evidence of waiver of water quality certification. Please note that the certification request must comply with 40 CFR 121.5(b), including documentation that a pre-filing meeting request was submitted to the certifying authority at least 30 days prior to submitting the certification request. Please also note that the certification request must be sent to the certifying authority and to the Commission concurrently.

p. Procedural schedule: The application will be processed according to the following preliminary schedule. Revisions to the schedule will be made as appropriate.

Milestone | Target date
Deadline for filing interventions, protests, comments, recommendations, preliminary terms and conditions, and preliminary fishway prescriptions | August 2022.
Deadline for filing reply comments | September 2022.

q. Final amendments to the application must be filed with the Commission no later than 30 days from the issuance date of this notice.

Dated: June 2, 2022.
Debbie-Anne A. Reese,
Deputy Secretary.

[FR Doc. 2022-12334 Filed 6-7-22; 8:45 am]

BILLING CODE 6717-01-P